DEPARTMENT OF DEFENSE

Department of the Navy

[Docket ID: USN-2024-HQ-0006]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by November 18, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Anchored4Life Evaluability Study Interviews; OMB Control Number 0703-AFLT.

Type of Request: New.

Stakeholder Interviews

Number of Respondents: 58.

Responses per Respondent: 1.

Annual Responses: 58.

Average Burden per Response: 45 minutes.

Annual Burden Hours: 44.

Youth Interviews

Number of Responsdents: 120.

Responses per Respondent: 1.

Annual Responses: 120.

Average Burden per Response: 15 minutes.

Annual Burden Hours: 30.

Total

Number of Respondents: 178.

Annual Responses: 178.

Annual Burden Hours: 74.

Needs and Uses: DoD Child Youth Programs (CYPs) require Anchored4Life (A4L) to provide Transition and Resiliency training to Navy (USN), Air Force (USAF), Space Force (USSF), Army (USA) and Marine Corps (USMC) School based elementary, middle, and high schools, installation CYPs, and Geo-dispersed locations. Service Branch CYPs are required by Title 10 U.S.C. 1785, “Youth Sponsorship Program” and DoD Instruction 6060.04, “Youth Services (YS) Policy,” to provide School Liaison program and Youth Sponsorship. Service Branches use CYP Education Services (CYES) to execute this requirement using School Liaisons (SL), School Based Programs (SBP) and Youth Programs (YP). Execution includes providing resiliency and transition training and support, as well as system navigation assistance to parents of military associated children. A4L is an essential element of the military CYPs, PreK-12 System Navigation, and youth sponsorship programs and shall be provided at military installations and be available to Geo-dispersed locations.

The USN, USAF, and USSF, through the Trevor Romain Contract HDQMWR-21-D-003, are requesting OMB approval for a qualitative study of the A4L program intended to support military-connected youth. Military-connected youth in kindergarten through 12th grade face challenges that are similar to their civilian counterparts and also face unique challenges specific to their association with the military (e.g., deployments, frequent moves; Karre & Perkins, 2022). There has been little research examining the implementation or effectiveness of programs and initiatives available to support military-connected youth (Karre & Perkins, 2022).

The purpose of this study is to investigate the implementation of A4L training to support military-connected youth (i.e., kindergarten through 12th grade) to review current research on K-12 military-connected youth and evaluate A4L programming to determine effectiveness of transition, deployment support, and resiliency impact on other key youth issues including bullying prevention, as well as recovery from grief and suicide. The long-term goal is to foster life skills and resiliency in military-connected youth while in school. Supporting youth is helpful to the military since about 45% of military-connected youth enter Military Service as adults. Having these life skills will assist youth in becoming productive young adults.

The evaluation questions to be addressed are as follows:

(1) How is A4L programming being implemented within schools and the Child and Youth Programs?

(2) Is the training and support increasing program quality through knowledge acquisition and standardization?

(3) Are the youth being supported by their peers when going through the transition topics supported by A4L?

(4) Are youth learning life skills, beginning in elementary school, that increase their resiliency to become productive young adults?

(5) Are the partnerships or other programs having the intended impact?

(6) Based on the analysis of the implementation data, what recommendations related evidence-informed practices within youth development need to be implemented or enhanced?

To answer these evaluative questions, semi-structured interviews will be conducted with A4L Stakeholders (Military Connected Individuals, Administrative points of contact, Advisers, and A4L Staff) and youth participating in A4L (Team Leaders, Crew Members, and A4L representatives).

Affected Public: Individuals or households.

Frequency: Once.

Respondent's Obligation: Voluntary.

OMB Desk Officer: Ms. Jasmeet Seehra.

DOD Clearance Officer: Mr. Reginald Lucas.

Dated: October 15, 2024.
Aaron T. Siegel,
Alternate OSD Federal Register Liaison Officer, Department of Defense.

[FR Doc. 2024-24148 Filed 10-17-24; 8:45 am]

BILLING CODE 6001-FR-P